DEPARTMENT OF HEALTH AND HUMAN SERVICES

National Institutes of Health

Center for Scientific Review; Amended Notice of Meeting

Notice is hereby given of a change in the meeting of the Pathobiochemistry Study Section, October 16, 2003, 8:30 a.m. to October 17, 2003, 2 p.m., Holiday Inn Chevy Chase, 5520 Wisconsin Avenue, Chevy Chase, MD 20815, which was published in the Federal Register on September 9, 2003, 65 FR 53183-53186.

The meeting will be one day only October 16, 2003, from 8:30 to 4 p.m. The location remains the same. The meeting is closed to the public.

Dated: September 16, 2003.
LaVerne Y. Stringfield,
Director, Office of Federal Advisory Committee Policy.

[FR Doc. 03-24201 Filed 9-24-03; 8:45 am]

BILLING CODE 4140-01-M